DEPARTMENT OF ENERGY

Federal Energy Regulatory Commission

[Project No. 5089-027]

Fall River Rural Electric Cooperative, Inc.; Notice of Application Ready for Environmental Analysis and Soliciting Comments, Recommendations, Terms and Conditions, and Prescriptions

Take notice that the following hydroelectric application has been filed with the Commission and is available for public inspection.

a. Type of Application: New Major License.

b. Project No.: 5089-027.

c. Date filed: August 31, 2021.

d. Applicant: Fall River Rural Electric Cooperative, Inc. (Fall River).

e. Name of Project: Felt Hydroelectric Project (project).

f. Location: The project is located on the Teton River, near the town of Tetonia, in Teton County, Idaho. The project occupies federal land administered by the Bureau of Land Management.

g. Filed Pursuant to: Federal Power Act 16 U.S.C. 791a-825r.

h. Applicant Contact: Nicholas Josten, 2742 Saint Charles Ave, Idaho Falls, Idaho 83404; (208) 528-6152.

i. FERC Contact: Ingrid Brofman, (202) 502-8347 or ingrid.brofman@ferc.gov.

j. Deadline for filing comments, recommendations, terms and conditions, and prescriptions: on or before 5:00 p.m. Eastern Time on December 1, 2025; ¹ reply comments are due on or before 5:00 p.m. Eastern Time on January 14, 2026.

¹ The Commission's Rules of Practice and Procedure provide that if a filing deadline falls on a Saturday, Sunday, holiday, or other day when the Commission is closed for business, the filing deadline does not end until the close of business on the next business day. 18 CFR 385.2007(a)(2) (2025). Because the filing deadline falls on a Sunday (i.e., November 30, 2025), the filing deadline is extended until the close of business on Monday, December 1, 2025.

The Commission strongly encourages electronic filing. Please file comments, recommendations, terms and conditions, and prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Felt Hydroelectric Project (P-5089-027).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Felt Project consists of: (1) a 122.5-foot-long, 12-foot-high concrete dam that includes the following sections: (a) 25-foot-wide sluiceway section with a 4-foot-wide fish ladder and a 14-foot-wide corrugated steel radial gate and (b) a 96-foot-wide uncontrolled overflow spillway with a crest elevation of 5,530-feet mean sea level (msl); (2) a 7-acre impoundment with a storage capacity of 28 acre-feet at a normal water surface elevation of 5,530-feet msl; (3) a 178-foot-long, 8.5-foot-deep fish screen with 3/8-inch clear bar spacing; (4) three intake openings located behind the fish screen each equipped with 10-foot-wide intake gates and 10-foot-wide trash racks with 3-inch clear bar spacing; (5) three, 8-foot-square unlined rock tunnels connecting the intakes to penstocks and consisting of: (a) a 179-foot-long Tunnel No. 1 connecting to a 280-foot- long, 78-inch-diameter steel penstock that bifurcates into two, 180-foot-long, 60-inch-diameter steel penstocks that connect to Powerhouse No. 1; and (b) a 177-foot-long Tunnel No. 2 and a 196-foot-long Tunnel No. 3 each connecting to a 1,750-foot-long, 96- inch-diameter steel penstock that connects to Powerhouse No. 2; (6) an 83-foot-long, 26- foot-wide, 13-foot-high reinforced concrete Powerhouse No. 1 containing two horizontal Francis turbine-generator units with a combined generating capacity of 1,950 kilowatts (kW); (7) a 36-foot-long, 36-foot-wide, 25-foot-high reinforced concrete Powerhouse No. 2 containing two vertical Francis turbine-generator units with a combined generating capacity of 5,500 kW; (8) two tailrace channels discharging to the Teton River from Powerhouses No. 1 and No. 2; (9) a 1,500-foot-long, 4.16 kilovolt (kV) overhead transmission line connecting Powerhouse No. 1 to a transformer located next to Powerhouse No. 2; (10) a 2,000-foot-long, 24.9 kV overhead transmission line leading from the transformer to the grid interconnection point; and (11) appurtenant facilities. Fall River also maintains a portage trail, parking area, restroom, signage, and boating take-out.

The project has a total authorized capacity of 7,450 kilowatts (kW) and an average annual generation of 33,100 megawatt-hours (MWh). Fall River currently operates the project in a run-of-river mode such that outflow from the project approximates inflow. The project has a maximum hydraulic capacity of 900 cubic feet per second (cfs) when all four turbine generator units in Powerhouse No. 1 (upper powerhouse) and Powerhouse No. 2 (lower powerhouse) are operating. The minimum and maximum hydraulic capacities of Powerhouse No. 1 are 50 and 500 cfs, respectively. The minimum and maximum hydraulic capacities of Powerhouse No. 2 are 62.5 and 500 cfs, respectively. However, Powerhouse No. 1 has been inoperable since 2006 and has recently been repaired.

During normal operation, water discharged from Powerhouse No. 2 bypasses a 1,950-foot reach of the Teton River between the dam and the tailrace of the powerhouse. Water discharged from Powerhouse No. 1, which is located just upstream of Powerhouse No. 2, bypasses a 1,400- foot reach of the Teton River. The project is required to discharge a minimum flow from the dam into the bypassed reach of 20 cfs from July 1 to March 14 and 50 cfs from March 15 to June 30. The minimum bypass flow is manually set by adjusting the radial gate opening until the correct minimum flow is indicated by a staff gauge below the dam. During periods of high flows, the project operates at maximum capacity. Excess flows beyond the required minimum flow into the bypassed reach and the maximum hydraulic capacity of the turbines are passed through the project's radial gate and discharged over the spillway.

Fall River proposes to continue to operate the Felt Project in a run-of-river mode and maintain existing project facilities. Fall River proposes to remove 30.14 acres of land from the current project boundary. Fall River also proposes to implement a Yellowstone cutthroat trout conservation plan, continue to implement weed control measures, improve the portage trail and recreation access trail, and install a warning siren at both powerhouses to warn visitors of sudden flow changes in the event of sudden tripping of the project that causes sudden flow changes from either powerhouse.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file the following on or before 5:00 p.m. Eastern Time November 30, 2025: (1) copy of the water quality certification; (2) a copy of the request for certification, including proof of the date on which the certifying agency received the request; or (3) evidence of a waiver of water quality certification.

o. Final amendments to the application must be filed with the Commission on or before 5:00 p.m. Eastern Time on October 31, 2025.

Dated: October 1, 2025.
Debbie-Anne A. Reese,
Secretary.

[FR Doc. 2025-21052 Filed 11-24-25; 8:45 am]

BILLING CODE 6717-01-P